ENVIRONMENTAL PROTECTION AGENCY

40 CFR Part 52

[EPA-R10-OAR-2015-0600; FRL-9936-97-Region 10]

Approval and Promulgation of Implementation Plans; Washington: Additional Regulations for the Benton Clean Air Agency Jurisdiction

AGENCY: Environmental Protection Agency (EPA).

ACTION: Final rule.

SUMMARY: The Environmental Protection Agency (EPA) is approving revisions to the Washington State Implementation Plan (SIP) that were submitted by the Department of Ecology (Ecology) in coordination with Benton Clean Air Agency (BCAA) on August 25, 2015. In the fall of 2014 and spring of 2015, the EPA approved numerous revisions to Ecology's general air quality regulations. However, our approval of the updated Ecology regulations applied only to geographic areas where Ecology, and not a local air authority, has jurisdiction, and statewide to source categories over which Ecology has sole jurisdiction. This final approval allows BCAA to rely primarily on Ecology's general air quality regulations for sources within BCAA's jurisdiction, including implementation of the minor new source review and nonattainment new source review permitting programs. This final action also approves of a small set of BCAA regulatory provisions that replace or supplement parts of Ecology's general air quality regulations.

DATES: This final rule is effective December 17, 2015.

ADDRESSES: The EPA has established a docket for this action under Docket ID No. EPA-R10-OAR-2015-0600. All documents in the docket are listed on the http://www.regulations.gov Web site. Although listed in the index, some information is not publicly available, e.g., Confidential Business Information (CBI) or other information the disclosure of which is restricted by statute. Certain other material, such as copyrighted material, is not placed on the Internet and will be publicly available only in hard copy form. Publicly available docket materials are available either electronically through http://www.regulations.gov or in hard copy at the Air Programs Unit, Office of Air, Waste and Toxics, EPA Region 10, 1200 Sixth Avenue, Seattle, WA 98101. The EPA requests that if at all possible, you contact the individual listed in the FOR FURTHER INFORMATION CONTACT section to view the hard copy of the docket. You may view the hard copy of the docket Monday through Friday, 8:00 a.m. to 4:00 p.m., excluding Federal holidays.

FOR FURTHER INFORMATION CONTACT: For information please contact Jeff Hunt at (206) 553-0256, hunt.jeff@epa.gov, or by using the above EPA, Region 10 address.

SUPPLEMENTARY INFORMATION:

Table of Contents

I. Background Information

II. Final Action

III. Incorporation by Reference

IV. Statutory and Executive Orders Review

I. Background Information

On September 15, 2015, the EPA proposed to approve revisions to the general air quality regulations contained in the Washington SIP as they apply to BCAA's jurisdiction (80 FR 55280). An explanation of the CAA requirements, a detailed analysis of the submittal, and the EPA's reasons for approval were provided in the notice of proposed rulemaking, and will not be restated here. The public comment period for this proposed rule ended on October 15, 2015. The EPA received no comments on the proposal.

II. Final Action

A. Regulations Approved and Incorporated by Reference Into the SIP

The EPA is approving and incorporating by reference into the Washington SIP at 40 CFR 52.2470(c)—Table 4, “Additional Regulations Approved for the Benton Clean Air Agency (BCAA) Jurisdiction” the BCAA and Ecology regulations listed in the tables below for sources within BCAA's jurisdiction.

Approved Benton Clean Air Agency (BCAA) Regulations
State/local citation | Title/subject | State/local effective date | Explanation
Regulation 1
1.01 | Name of Agency | 12/11/14
1.02 | Policy and Purpose | 12/11/14 | Replaces WAC 173-400-010.
1.03 | Applicability | 12/11/14 | Replaces WAC 173-400-020.
4.01(A) | Definitions—Fugitive Dust | 12/11/14 | Replaces WAC 173-400-030 (38).
4.01(B) | Definitions—Fugitive Emissions | 12/11/14 | Replaces WAC 173-400-030 (39).
4.02(B) | Particulate Matter Emissions—Fugitive Emissions | 12/11/14 | Replaces WAC 173-400-040(4).
4.02(C)(1) | Particulate Matter Emissions—Fugitive Dust | 12/11/14 | Replaces WAC 173-400-040(9)(a).
4.02(C)(3) | Particulate Matter Emissions—Fugitive Dust | 12/11/14 | Replaces WAC 173-400-040(9)(b).

Approved Washington State Department of Ecology Regulations
State/local citation | Title/subject | State/local effective date | Explanation
Chapter 173-400 WAC, General Regulations for Air Pollution Sources
173-400-030 | Definitions | 12/29/12 | Except: 173-400-030(38); 173-400-030(39); 173-400-030(91).
173-400-036 | Relocation of Portable Sources | 12/29/12
173-400-040 | General Standards for Maximum Emissions | 4/1/11 | Except: 173-400-040(2)(c); 173-400-040(2)(d); 173-400-040(3); 173-400-040(4); 173-400-040(5); 173-400-040(7), second paragraph; 173-400-040(9)(a); 173-400-040(9)(b).
173-400-050 | Emission Standards for Combustion and Incineration Units | 12/29/12 | Except: 173-400-050(2); 173-400-050(4); 173-400-050(5).
173-400-060 | Emission Standards for General Process Units | 2/10/05
173-400-070 | Emission Standards for Certain Source Categories | 12/29/12 | Except: 173-400-070(7); 173-400-070(8).
173-400-081 | Startup and Shutdown | 4/1/11
173-400-091 | Voluntary Limits on Emissions | 4/1/11
173-400-105 | Records, Monitoring and Reporting | 12/29/12
173-400-110 | New Source Review (NSR) for Sources and Portable Sources | 12/29/12 | Except: 173-400-110(1)(c)(ii)(C); 173-400-110(1)(e); 173-400-110(2)(d); —The part of WAC 173-400-110(4)(b)(vi) that says, “not for use with materials containing toxic air pollutants, as listed in chapter 173-460 WAC,”;
|  |  | —The part of 400-110(4)(e)(iii) that says, “where toxic air pollutants as defined in chapter 173-460 WAC are not emitted”; The part of 400-110(4)(e)(f)(i) that says, “that are not toxic air pollutants listed in chapter 173-460 WAC”;
|  |  | —The part of 400-110(4)(h)(xviii) that says, “, to the extent that toxic air pollutant gases as defined in chapter 173-460 WAC are not emitted”;
|  |  | —The part of 400-110(4)(h)(xxxiii) that says, “where no toxic air pollutants as listed under chapter 173-460 WAC are emitted”;
|  |  | —The part of 400-110(4)(h)(xxxiv) that says, “, or ≤1% (by weight) toxic air pollutants as listed in chapter 173-460 WAC”; The part of 400-110(4)(h)(xxxv) that says, “or ≤1% (by weight) toxic air pollutants”;
|  |  | —The part of 400-110(4)(h)(xxxvi) that says, “or ≤1% (by weight) toxic air pollutants as listed in chapter 173-460 WAC”; 400-110(4)(h)(xl), second sentence;
|  |  | —The last row of the table in 173-400-110(5)(b) regarding exemption levels for Toxic Air Pollutants.
173-400-111 | Processing Notice of Construction Applications for Sources, Stationary Sources and Portable Sources | 12/29/12 | Except: 173-400-111(3)(h); —The part of 173-400-111(8)(a)(v) that says, “and 173-460-040,”; 173-400-111(9).
173-400-112 | Requirements for New Sources in Nonattainment Areas—Review for Compliance with Regulations | 12/29/12 | Except: 173-400-112(8).
173-400-113 | New Sources in Attainment or Unclassifiable Areas—Review for Compliance with Regulations | 12/29/12 | Except: 173-400-113(3), second sentence.
173-400-117 | Special Protection Requirements for Federal Class I Areas | 12/29/12 | Except facilities subject to the applicability provisions of WAC 173-400-700.
173-400-118 | Designation of Class I, II, and III Areas | 12/29/12
173-400-131 | Issuance of Emission Reduction Credits | 4/1/11
173-400-136 | Use of Emission Reduction Credits (ERC) | 12/29/12
173-400-151 | Retrofit Requirements for Visibility Protection | 2/10/05
173-400-171 | Public Notice and Opportunity for Public Comment | 12/29/12 | Except: —The part of 173-400-171(3)(b) that says, “or any increase in emissions of a toxic air pollutant above the acceptable source impact level for that toxic air pollutant as regulated under chapter 173-460 WAC”; 173-400-171(12).
173-400-175 | Public Information | 2/10/05
173-400-200 | Creditable Stack Height & Dispersion Techniques | 2/10/05
173-400-560 | General Order of Approval | 12/29/12 | Except: —The part of 173-400-560(1)(f) that says, “173-460 WAC”.
173-400-800 | Major Stationary Source and Major Modification in a Nonattainment Area | 4/1/11
173-400-810 | Major Stationary Source and Major Modification Definitions | 12/29/12
173-400-820 | Determining if a New Stationary Source or Modification to a Stationary Source is Subject to these Requirements | 12/29/12
173-400-830 | Permitting Requirements | 12/29/12
173-400-840 | Emission Offset Requirements | 12/29/12
173-400-850 | Actual Emissions Plantwide Applicability Limitation (PAL) | 12/29/12
173-400-860 | Public Involvement Procedures | 4/1/11

B. Regulations Approved But Not Incorporated by Reference

In addition to the regulations approved and incorporated by reference above, the EPA reviews and approves state and local clean air agency submissions to ensure they provide adequate enforcement authority and other general authority to implement and enforce the SIP. However, regulations describing such agency enforcement and other general authority are generally not incorporated by reference so as to avoid potential conflict with the EPA's independent authorities. The EPA reviewed and is approving BCAA, Regulation 1, Article 2, General Provisions, as having adequate enforcement and other general authority for purposes of implementing and enforcing the SIP, but is not incorporating this section by reference into the SIP codified in 40 CFR 52.2470(c). Instead, the EPA is including sections 2.01, Powers and Duties of the Benton Clean Air Agency (BCAA); 2.02, Requirements for Board of Directors Members (replaces WAC 173-400-220); 2.03, Powers and Duties of the Board of Directors; 2.04, Powers and Duties of the Control Officer; 2.05, Severability; and 2.06, Confidentiality of Records and Information, in 40 CFR 52.2470(e), EPA Approved Nonregulatory Provisions and Quasi-Regulatory Measures, as approved but not incorporated by reference regulatory provisions. Finally, for the reasons discussed above, the EPA is moving WAC 173-400-220, Requirements for Board Members; WAC 173-400-230, Regulatory Actions; WAC 173-400-240, Criminal Penalties; WAC 173-400-250, Appeals; and WAC 173-400-260, Conflict of Interest, currently incorporated by reference in 40 CFR 52.2470(c)—Table 4, to the list of provisions in 40 CFR 52.2470(e) that are approved but not incorporated by reference.

C. Regulations Removed From the SIP

The regulations contained in Washington's SIP at 40 CFR 52.2470(c)—Table 4 were last approved by the EPA on June 2, 1995 (60 FR 28726). The EPA is removing from this table WAC 173-400-010 and 173-400-020 because these provisions are replaced by the BCAA corollaries 1.02, Policy and Purpose and 1.03, Applicability, as shown in Attachment 2 of the SIP revision. We are also removing WAC 173-400-100, because this outdated provision is no longer part of the EPA-approved SIP for Ecology's direct jurisdiction under CFR 52.2470(c)—Table 2 and BCAA has requested that it be removed from the BCAA's jurisdiction under CFR 52.2470(c)—Table 4. For more information please see the EPA's proposed (79 FR 39351, July 10, 2014) and final (79 FR 59653, October 3, 2014) actions on the general provisions of Chapter 173-400 WAC.

D. Scope of Proposed Action

This revision to the SIP applies specifically to the BCAA jurisdiction incorporated into the SIP at 40 CFR 52.2470(c)—Table 4. As discussed in the EPA's October 3, 2014 action on the general provisions of Chapter 173-400 WAC, jurisdiction is generally defined on a geographic basis (Benton County); however there are exceptions (79 FR 59653 at page 59654). By statute, BCAA does not have authority for sources under the jurisdiction of the Energy Facilities Site Evaluation Council (EFSEC). See Revised Code of Washington Chapter 80.50. Under the applicability provisions of WAC 173-405-012, WAC 173-410-012, and WAC 173-415-012, BCAA also does not have jurisdiction for kraft pulp mills, sulfite pulping mills, and primary aluminum plants. For these sources, Ecology retains statewide, direct jurisdiction. Ecology also retains statewide, direct jurisdiction for the Prevention of Significant Deterioration (PSD) permitting program. Therefore, the EPA is not approving into 40 CFR 52.2470(c)—Table 4 those provisions of Chapter 173-400 WAC related to the PSD program. Specifically, these provisions are WAC 173-400-116 and WAC 173-400-700 through 750.

As described in the EPA's April 29, 2015 action, jurisdiction to implement the visibility permitting program contained in WAC 173-400-117 varies depending on the situation. Ecology retains authority to implement WAC 173-400-117 as it relates to PSD permits (80 FR 23721 at page 23726). However for facilities subject to nonattainment new source review (NNSR) under the applicability provisions of WAC 173-400-800, we are approving BCAA to implement those parts of WAC 173-400-117 as they relate to NNSR permits. See 80 FR 23726.

Lastly, the SIP is not approved to apply in Indian reservations in the State, except for non-trust land within the exterior boundaries of the Puyallup Indian Reservation (also known as the 1873 Survey Area), or any other area where the EPA or an Indian tribe has demonstrated that a tribe has jurisdiction.

III. Incorporation by Reference

In accordance with the requirements of 1 CFR 51.5, the EPA is revising our incorporation by reference of 40 CFR 52.2470(c)—Table 4 “Additional Regulations Approved for the Benton Clean Air Agency (BCAA) Jurisdiction” to reflect the regulations shown in the tables in section III.A. Regulations to Approve and Incorporate by Reference into the SIP and the rules removed from the SIP in section III.C. Regulations to Remove from the SIP. The EPA has made, and will continue to make, these documents generally available electronically through http://www.regulations.gov and/or in hard copy at the appropriate EPA office (see the ADDRESSES section of this preamble for more information).

IV. Statutory and Executive Orders Review

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it will not impose substantial direct costs on tribal governments or preempt tribal law. This SIP revision is not approved to apply in Indian reservations in the State or any other area where the EPA or an Indian tribe has demonstrated that a tribe has jurisdiction.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 19, 2016. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 3, 2015.
Dennis J. McLerran,
Regional Administrator, Region 10.

For the reasons set forth in the preamble, 40 CFR part 52 is amended as follows:

PART 52—APPROVAL AND PROMULGATION OF IMPLEMENTATION PLANS

1. The authority citation for Part 52 continues to read as follows:

Authority: 42 U.S.C. 7401 et seq.

Subpart WW—Washington

2. In § 52.2470, revise Table 4 in paragraph (c) and Table 1 in paragraph (e) to read as follows:

§ 52.2470 Identification of plan.

* * * * *

(c) * * *

Table 4—Additional Regulations Approved for the Benton Clean Air Agency (BCAA) Jurisdiction
[Applicable in Benton County, excluding facilities subject to Energy Facilities Site Evaluation Council (EFSEC) jurisdiction, Indian reservations and any other area where the EPA or an Indian tribe has demonstrated that a tribe has jurisdiction, and facilities subject to the applicability sections of WAC 173-400-700, 173-405-012, 173-410-012, and 173-415-012]
State citation | Title/subject | State effective date | EPA approval date | Explanations
Benton Clean Air Agency (BCAA) Regulations
Regulation 1
1.01 | Name of Agency | 12/11/14 | 11/17/15 [Insert Federal Register citation] |
1.02 | Policy and Purpose | 12/11/14 | 11/17/15 [Insert Federal Register citation] | Replaces WAC 173-400-010.
1.03 | Applicability | 12/11/14 | 11/17/15 [Insert Federal Register citation] | Replaces WAC 173-400-020.
4.01(A) | Definitions—Fugitive Dust | 12/11/14 | 11/17/15 [Insert Federal Register citation] | Replaces WAC 173-400-030 (38).
4.01(B) | Definitions—Fugitive Emissions | 12/11/14 | 11/17/15 [Insert Federal Register citation] | Replaces WAC 173-400-030 (39).
4.02(B) | Particulate Matter Emissions—Fugitive Emissions | 12/11/14 | 11/17/15 [Insert Federal Register citation] | Replaces WAC 173-400-040(4).
4.02(C)(1) | Particulate Matter Emissions—Fugitive Dust | 12/11/14 | 11/17/15 [Insert Federal Register citation] | Replaces WAC 173-400-040(9)(a).
4.02(C)(3) | Particulate Matter Emissions—Fugitive Dust | 12/11/14 | 11/17/15 [Insert Federal Register citation] | Replaces WAC 173-400-040(9)(b).
Washington Department of Ecology Regulations
Washington Administrative Code, Chapter 173-400—General Regulations for Air Pollution Sources
173-400-030 | Definitions | 12/29/12 | 11/17/15 [Insert Federal Register citation] | Except: 173-400-030(38); 173-400-030(39); 173-400-030(91).
173-400-036 | Relocation of Portable Sources | 12/29/12 | 11/17/15 [Insert Federal Register citation]
173-400-040 | General Standards for Maximum Emissions | 4/1/11 | 11/17/15 [Insert Federal Register citation] | Except: 173-400-040(2)(c); 173-400-040(2)(d); 173-400-040(3); 173-400-040(4); 173-400-040(5); 173-400-040(7), second paragraph; 173-400-040(9)(a); 173-400-040(9)(b).
173-400-050 | Emission Standards for Combustion and Incineration Units | 12/29/12 | 11/17/15 [Insert Federal Register citation] | Except: 173-400-050(2); 173-400-050(4); 173-400-050(5).
173-400-060 | Emission Standards for General Process Units | 2/10/05 | 11/17/15 [Insert Federal Register citation]
173-400-070 | Emission Standards for Certain Source Categories | 12/29/12 | 11/17/15 [Insert Federal Register citation] | Except: 173-400-070(7); 173-400-070(8).
173-400-081 | Startup and Shutdown | 4/1/11 | 11/17/15 [Insert Federal Register citation]
173-400-091 | Voluntary Limits on Emissions | 4/1/11 | 11/17/15 [Insert Federal Register citation]
173-400-105 | Records, Monitoring and Reporting | 12/29/12 | 11/17/15 [Insert Federal Register citation]
173-400-107 | Excess Emissions | 9/20/93 | 6/2/95, 60 FR 28726
173-400-110 | New Source Review (NSR) for Sources and Portable Sources | 12/29/12 | 11/17/15 [Insert Federal Register citation] | Except: 173-400-110(1)(c)(ii)(C); 173-400-110(1)(e); 173-400-110(2)(d);
|  |  |  | —The part of WAC 173-400-110(4)(b)(vi) that says, “not for use with materials containing toxic air pollutants, as listed in chapter 173-460 WAC,”;
|  |  |  | —The part of 400-110(4)(e)(iii) that says, “where toxic air pollutants as defined in chapter 173-460 WAC are not emitted”; The part of 400-110(4)(e)(f)(i) that says, “that are not toxic air pollutants listed in chapter 173-460 WAC”;
|  |  |  | —The part of 400-110(4)(h)(xviii) that says, “, to the extent that toxic air pollutant gases as defined in chapter 173-460 WAC are not emitted”;
|  |  |  | —The part of 400-110(4)(h)(xxxiii) that says, “where no toxic air pollutants as listed under chapter 173-460 WAC are emitted”;
|  |  |  | —The part of 400-110(4)(h)(xxxiv) that says, “, or ≤1% (by weight) toxic air pollutants as listed in chapter 173-460 WAC”; —The part of 400-110(4)(h)(xxxv) that says, “or ≤1% (by weight) toxic air pollutants”;
|  |  |  | —The part of 400-110(4)(h)(xxxvi) that says, “or ≤ 1% (by weight) toxic air pollutants as listed in chapter 173-460 WAC”; 400-110(4)(h)(xl), second sentence; —The last row of the table in 173-400-110(5)(b) regarding exemption levels for Toxic Air Pollutants.
173-400-111 | Processing Notice of Construction Applications for Sources, Stationary Sources and Portable Sources | 12/29/12 | 11/17/15 [Insert Federal Register citation] | Except: 173-400-111(3)(h); —The part of 173-400-111(8)(a)(v) that says, “and 173-460-040,”; 173-400-111(9).
173-400-112 | Requirements for New Sources in Nonattainment Areas—Review for Compliance with Regulations | 12/29/12 | 11/17/15 [Insert Federal Register citation] | Except: 173-400-112(8).
173-400-113 | New Sources in Attainment or Unclassifiable Areas—Review for Compliance with Regulations | 12/29/12 | 11/17/15 [Insert Federal Register citation] | Except: 173-400-113(3), second sentence.
173-400-117 | Special Protection Requirements for Federal Class I Areas | 12/29/12 | 11/17/15 [Insert Federal Register citation] | Except facilities subject to the applicability provisions of WAC 173-400-700.
173-400-118 | Designation of Class I, II, and III Areas | 12/29/12 | 11/17/15 [Insert Federal Register citation]
173-400-131 | Issuance of Emission Reduction Credits | 4/1/11 | 11/17/15 [Insert Federal Register citation]
173-400-136 | Use of Emission Reduction Credits (ERC) | 12/29/12 | 11/17/15 [Insert Federal Register citation]
173-400-151 | Retrofit Requirements for Visibility Protection | 2/10/05 | 11/17/15 [Insert Federal Register citation]
173-400-161 | Compliance Schedules | 3/22/91 | 6/2/95, 60 FR 28726
173-400-171 | Public Notice and Opportunity for Public Comment | 12/29/12 | 11/17/15 [Insert Federal Register citation] | Except: —The part of 173-400-171(3)(b) that says, “or any increase in emissions of a toxic air pollutant above the acceptable source impact level for that toxic air pollutant as regulated under chapter 173-460 WAC”; 173-400-171(12).
173-400-175 | Public Information | 2/10/05 | 11/17/15 [Insert Federal Register citation]
173-400-190 | Requirements for Nonattainment Areas | 3/22/91 | 6/2/95, 60 FR 28726
173-400-200 | Creditable Stack Height & Dispersion Techniques | 2/10/05 | 11/17/15 [Insert Federal Register citation]
173-400-205 | Adjustment for Atmospheric Conditions | 3/22/91 | 6/2/95, 60 FR 28726
173-400-210 | Emission Requirements of Prior Jurisdictions | 3/22/91 | 6/2/95, 60 FR 28726
173-400-560 | General Order of Approval | 12/29/12 | 11/17/15 [Insert Federal Register citation] | Except: —The part of 173-400-560(1)(f) that says, “173-460 WAC”.
173-400-800 | Major Stationary Source and Major Modification in a Nonattainment Area | 4/1/11 | 11/17/15 [Insert Federal Register citation]
173-400-810 | Major Stationary Source and Major Modification Definitions | 12/29/12 | 11/17/15 [Insert Federal Register citation]
173-400-820 | Determining if a New Stationary Source or Modification to a Stationary Source is Subject to these Requirements | 12/29/12 | 11/17/15 [Insert Federal Register citation]
173-400-830 | Permitting Requirements | 12/29/12 | 11/17/15 [Insert Federal Register citation]
173-400-840 | Emission Offset Requirements | 12/29/12 | 11/17/15 [Insert Federal Register citation]
173-400-850 | Actual Emissions Plantwide Applicability Limitation (PAL) | 12/29/12 | 11/17/15 [Insert Federal Register citation]
173-400-860 | Public Involvement Procedures | 4/1/11 | 11/17/15 [Insert Federal Register citation]

* * * * *

(e) * * *

Table 1—Approved But Not Incorporated by Reference Statutes and Regulations
State citation | Title/subject | State effective date | EPA approval date | Explanations
Washington Department of Ecology Regulations
173-433-200 | Regulatory Actions and Penalties | 10/18/90 | 1/15/93, 58 FR 4578
173-400-220 | Requirements for Board Members | 3/22/91 | 6/2/95, 60 FR 28726
173-400-230 | Regulatory Actions | 3/20/93 | 6/2/95, 60 FR 28726
173-400-240 | Criminal Penalties | 3/22/91 | 6/2/95, 60 FR 28726
173-400-250 | Appeals | 9/20/93 | 6/2/95, 60 FR 28726
173-400-260 | Conflict of Interest | 3/22/91 | 6/2/95, 60 FR 28726
Olympic Region Clean Air Agency Regulations
8.1.6 | Penalties | 5/22/10 | 10/3/13, 78 FR 61188
Spokane Regional Clean Air Agency Regulations
8.11 | Regulatory Actions and Penalties | 09/02/14 | 09/28/15, 80 FR 58217
Benton Clean Air Agency Regulations
2.01 | Powers and Duties of the Benton Clean Air Agency (BCAA) | 12/11/14 | 11/17/15 [Insert Federal Register citation]
2.02 | Requirements for Board of Directors Members | 12/11/14 | 11/17/15 [Insert Federal Register citation] | Replaces WAC 173-400-220.
2.03 | Powers and Duties of the Board of Directors | 12/11/14 | 11/17/15 [Insert Federal Register citation]
2.04 | Powers and Duties of the Control Officer | 12/11/14 | 11/17/15 [Insert Federal Register citation]
2.05 | Severability | 12/11/14 | 11/17/15 [Insert Federal Register citation]
2.06 | Confidentiality of Records and Information | 12/11/14 | 11/17/15] [Insert Federal Register citation]

* * * * *

[FR Doc. 2015-29180 Filed 11-16-15; 8:45 am]

BILLING CODE 6560-50-P